Title 3—

The President

Presidential Determination No. 2007-5 of November 27, 2006

Waiving the Prohibition on the Use of Fiscal Year 2006

Economic Support Funds With Respect to Various Parties to the Rome Statute Establishing the International Criminal Court

Memorandum for the Secretary of State

Pursuant to the authority vested in me by the Constitution and laws of the United States, including section 574 of the Foreign Operations, Export Financing, and Related Programs Appropriations Act, 2006 (the “Act”), Public Law 109-102, I hereby:

• Determine that it is important to the national interests of the United States to waive the prohibition of section 574(a) of the Act with respect to Bolivia, Costa Rica, Cyrus, Ecuador, Kenya, Mali, Mexico, Namibia, Niger, Paraguay, Peru, Samoa, South Africa, and Tanzania; and

• Waive the prohibition of section 574(a) of the Act with respect to these countries.

You are authorized and directed to report this determination to the Congress, and to arrange for its publication in the Federal Register.

THE WHITE HOUSE,

Washginton, November 27, 2006.

[FR Doc. 06-9665

Filed 12-11-06; 8:45 am]

Billing code 4710-10-P